DEPARTMENT OF HOUSING AND URBAN DEVELOPMENT

[Docket No. FR-7077-N-28]

Privacy Act of 1974; System of Records

AGENCY: Office of Housing, HUD.

ACTION: Rescindment of a systems of record.

SUMMARY: The Debt Collection and Asset Management Systems (DCAMS)—Title I/Generic Debt is used to collect and maintain data needed to support activities related to the Department's collection and servicing of various HUD/FHA debts, that support collection initiatives, such as wage garnishment, offset of federal payments, pursuit of judgments, and foreclosure; and supporting defensive litigation related to foreclosure and actions to quiet title. Pursuant to OMB Circular A-108, the Department of the Housing and Urban Development's Albany Financial Operations Center is issuing this notice of its intent to delete the system of records entitled HUD/HOU-55 Debt Collection and Asset Management System (DCAMS), which consists of two sister systems Title I and Generic Debt, HUD/HOU-55.

DATES: Comments will be accepted on or before March 4, 2024. This proposed action will be effective immediately upon publication.

ADDRESSES: You may submit comments, identified by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to https://www.regulations.gov including any personal information provided.

Docket: For access to the docket to read background documents or comments received go to https://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This SORN supported activities related to collecting and servicing various HUD/Federal Housing Association (FHA) debts under the Department's Title I and Generic Debt programs. The method used for retrieving records was assessed, and it was found that the system's records are retrieved using the Claim Number (also known as Case Number or Account Number) assigned to the debt. While the system has the capability to search using the debtors' Social Security Numbers, Names, and Addresses, these fields were never the primary methods of retrieval. As a result, the DCAMS system of records is being rescinded since it does not meet the legal definition. Though the systems will keep operating normally.

SYSTEM NAME AND NUMBER:

Debt Collection and Asset Management System (DCAMS), HUD/HOU-55.

HISTORY:

DCAMS Title I and Generic Debt SORN: 88 FR 7746 (February 6, 2023).

DCAMS Title I and Generic Debt SORN: 87 FR 57920 (September 22, 2022).

DCAMS Title I and Generic Debt SORN: 72 FR 63919 (November 13, 2007).

Ladonne L. White,
Chief Privacy Officer, Office of Administration.

[FR Doc. 2024-02128 Filed 2-1-24; 8:45 am]

BILLING CODE 4210-67-P